DEPARTMENT OF HEALTH AND HUMAN SERVICES

National Institutes of Health

Center for Scientific Review; Amended Notice of Meeting

Notice is hereby given of a change in the meeting of the Neurotoxicology and Alcohol Study Section, June 3, 2008, 8 a.m. to June 4, 2008, 5 p.m., Sir Francis Drake Hotel, 450 Powell Street, San Francisco, CA 94102, which was published in the Federal Register on April 4, 2008, 73 FR 18539-18542.

The meeting will be held one day only June 3, 2008. The meeting time and location remain the same. The meeting is closed to the public.

Dated: April 17, 2008.
Jennifer Spaeth,
Director, Office of Federal Advisory Committee Policy.

[FR Doc. E8-9001 Filed 4-24-08; 8:45 am]

BILLING CODE 4140-01-M